DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by April 28, 2004.

Title, Form, and OMB Number: Air Force ROTC College Scholarship Application; AF Form 113; OMB Number 0701-0101.

Type of Request: Extension.

Number of Respondents: 16,000.

Responses Per Respondent: 1.

Annual Responses: 16,000.

Average Burden Per Response: 30 minutes.

Annual Burden Hours: 8,000.

Needs and Uses: Respondents are high school seniors and recent graduates who apply for an Air Force ROTC college scholarship. Respondents will have the option of completing the application on the Air Force Internet homepage. Submitted data will be evaluated by selection boards to determine eligibility and to select individuals for the award of a college scholarship.

Affected Public: Individuals or households.

Frequency: On occasion.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 Jefferson Davis Highway, Suite 504, Arlington, VA 22202-4326.

Dated: March 22, 2004.
L. M. Bynum,
Alternate OSD Federal Register Liaison Officer, Department of Defense.

[FR Doc. 04-6883 Filed 3-26-04; 8:45 am]

BILLING CODE 5001-06-M